DEPARTMENT OF COMMERCE

National Oceanic and Atmospheric Administration

[I.D. 032801B]

Magnuson-Stevens Act Provisions; Fishing Capacity Reduction Program; Crab Species Covered by the Fishery Management Plan for Bering Sea/Aleutian Islands King and Tanner Crabs

AGENCY: National Marine Fisheries Service (NMFS), National Oceanic and Atmospheric Administration, Commerce.

ACTION: Notice of qualifying bidders and voters.

SUMMARY: NMFS issues this notice to inform the public of persons who prospectively qualify to bid, vote, or both in the fishing capacity reduction program for the crab species covered by the Fishery Management Plan for Bering Sea/Aleutian Islands king and tanner crabs.

DATES: Comments may be submitted on or before January 21, 2004.

ADDRESSES: Send comments about this notice to Michael L. Grable, Chief, Financial Services Division, National Marine Fisheries Service, 1315 East-West Highway, Silver Spring, MD 20910-3282.

Any person who wants to contact NMFS' Restricted Access Management Program (which issues crab species licenses) may do so at this address: Restricted Access Management Program, National Marine Fisheries Service, P.O. Box 21668, Juneau, AK 99802-1668.

FOR FURTHER INFORMATION CONTACT: Michael L. Grable,(301) 713-2390.

SUPPLEMENTARY INFORMATION:

I. General

Section 144(d) of Division B of Public Law 106-554, as amended, authorized this fishing capacity reduction program. The program's objective is reducing harvesting capacity in the Bering Sea/Aleutian Islands crab fishery. This will help financially stabilize this limited-entry fishery and manage its fish.

This is a voluntary program. In exchange for reduction payments, program participants will permanently relinquish their fishing licenses and their fishing vessels' catch histories and fishing privileges.

The program's maximum cost cannot exceed $100 million. A 30-year loan will finance 100 percent of whatever the cost turns out to be. Future crab landing fees will repay the loan.

In summary, the program will proceed as follows.

NMFS will publish an invitation to bid in a Federal Register notification, along with a bidding form and terms of capacity reduction agreement. This notification will specify bid opening and closing dates. NMFS will mail a bidding package to each person then on the qualifying bidder list. Qualified bidders will bid, along with co-bidders where appropriate. NMFS will score each bid amount against the bidder's past ex-vessel revenues during a bid scoring period. NMFS will, in a reverse auction, then accept bids whose amounts are the lowest percentages of the revenues. This will create reduction contracts.

Next, NMFS will conduct a referendum about the loan repayment fees. The reduction contracts will become inoperable unless at least two thirds of the votes cast in this referendum approve the fees.

If the referendum is successful, NMFS will publish a 30-day reduction payment tender notification in the Federal Register. Afterwards, NMFS will tender reduction payments and complete the program.

NMFS published proposed program regulations on December 12, 2002 (67 FR 76329. It published final program regulations on December 12, 2003 (68 FR 69331. Interested persons should review these for further program details.

The final regulations require NMFS to publish this notification before inviting bids. Any person who wants to comment about this notification may do so prior to January 21, 2004. Comments may address:

(1) Persons who appear on a list but should not,

(2) Persons who do not appear on a list but should,

(3) Persons whose names and/or business mailing addresses are incorrect, and

(4) Any other pertinent matter.

NMFS will update the lists, as necessary, immediately before using them either for mailing invitations to bid or referendum ballots. Mailed invitations and ballots will be accompanied by NMFS' detailed bidding and voting guidance.

The difference between the qualifying bidder list and the qualifying voter list is that the latter includes the holders of interim crab licenses and the former does not.

NMFS based these lists upon the Restricted Access Management Program's crab license holder records for holders which meet the requirements of 50 CFR 679.4(k)(5) as well as the requirements of the program's final regulations.

II. Qualifying bidder and voter lists

(1) Qualifying bidder List:

QUALIFYING BIDDERS
NAME | MAILING ADDRESS | NON-INTERIM CRAB LICENSE NO.
57 DEGREES NORTH, LLC | 1445 NW 56TH ST, SEATTLE, WA 98107 | LLC3554
AIREDALE LLC | 916 DELANEY ST, ANCHORAGE, AK 99501 | LLC2275
ALASKA BOAT COMPANY | PO BOX 5030, SEATTLE, WA 98105 | LLC2039
ALASKA CHALLENGER L.L.C. | PO BOX 5030, SEATTLE, WA 98105 | LLC3667
ALASKA SEA, INC. | 18509 8TH AVE NW, SEATTLE, WA 98177-3153 | LLC1607
ALASKA SEAFOOD PRODUCERS, INC. | PO BOX 1027, NEWPORT, OR 97365 | LLC2187
ALASKAN BEAUTY, LLC | C/O FMS INC, 620 SIXTH ST S, KIRKLAND, WA 98033 | LLC3301
ALEUTIAN BALLAD, INC. | 112 HARRISON AVE, CENTRALIA, WA 98531 | LLC3170
ALEUTIAN MARINER, LLC | 5470 SHILSHOLE AVE NW, STE 410, SEATTLE, WA 98107 | LLC3587
ALEUTIAN SHELLFISH, INC. | PO BOX 17701, SEATTLE, WA 98107 | LLC1971
ALEUTIAN SPRAY FISHERIES, INC. | 5470 SHILSHOLE AVE NW, STE 300, SEATTLE, WA 98107 | LLC2095
ALEUTIAN SPRAY FISHERIES, INC. | 5470 SHILSHOLE AVE NW, STE 300, SEATTLE, WA 98107 | LLC2099
ALEUTIAN SPRAY FISHERIES, INC. | 5470 SHILSHOLE AVE NW, STE 300, SEATTLE, WA 98107 | LLC2097
ALEUTIAN SPRAY REVERSE LLC | 2621 EASTLAKE AVE EAST, SEATTLE, WA 98102 | LLC2555
ALEUTIAN SPRAY, LLC | 101 NICKERSON, STE 340, C/O PUGET SOUND ACCOUNTING, SEATTLE, WA 98109 | LLC3861
AMATULI ENTERPRISES | PO BOX 1404, EDMONDS, WA 98020-1404 | LLC2260
AMERICAN STAR & OWNERS | 16 COLUMBIA KEY, BELLEVUE, WA 98006 | LLC3200
AMERICAN WAY FISHERIES, INC. | 4044 CLIFFSIDE RD, KODIAK, AK 99615 | LLC1658
ANDRONICA, INC. | 19239 40TH PL NE, SEATTLE, WA 98155 | LLC3809
ARCHIE GOULD | PO BOX 347, KING COVE, AK 99612 | LLC3031
ARCTIC BARUNA, LLC | 2629 NW 54TH, SEATTLE, WA 98072 | LLC2088
ARCTIC BARUNA, LLC | 2629 NW 54TH, SEATTLE, WA 98072 | LLC2087
ARCTIC MARINER, LLC | 5470 SHILSHOLE AVE NW, STE 410, SEATTLE, WA 98107 | LLC3585
ARCTIC SUN FISHERIES, INC. | 11825 SE EASTBOURNE LANE, PORTLAND, OR 97236 | LLC2366
ARCTIC VENTURES, INC. | 101 NICKERSON ST, STE 340, SEATTLE, WA 98109 | LLC3047
ARTHUR W. FOX | PO BOX 1713, KODIAK, AK 99615 | LLC1716
ATLANTICO, INC. | PO BOX 129, SISTERS, OR 97759 | LLC2471
AUTUMN DAWN PARTNERSHIP | 1445 NW 56TH ST, SEATTLE, WA 98107-3726 | LLC1808
BARBARA J PARTNERSHIP | 5303 SHILSHOLE AVE NW, SEATTLE, WA 98107 | LLC3824
BEAUTY BAY, INC. | 1223 PARKWAY DR, RICHMOND, CA 94803 | LLC3618
BELLA K OF SEATTLE, LLC | PO BOX 17911, SEATTLE, WA 98107 | LLC2020
BERING FIVE, INC | 62975 NE TUMALT RD, CASCADE LOCKS, OR 97014 | LLC4743
BERING STAR, LLC | C/O H.A.S., P.O. BOX 17012, SEATTLE, WA 98107-0712 | LLC3889
BERING STAR, LLC | C/O H.A.S., P.O. BOX 17012, SEATTLE, WA 98107-0712 | LLC3965
BIG BLUE FISHERIES | PO BOX 663, CATHLAMET, WA 98612 | LLC1766
BLUE ATTU, LLC | 2930 WESTLAKE AVE N, #300, SEATTLE, WA 98109 | LLC3974
BLUE BOATS CORP. | 5470 SHILSHOLE AVE NW, STE 500, SEATTLE, WA 98107 | LLC2093
BREKKAA FISHERIES, INC. | 1707 NW 56TH, SEATTLE, WA 98107 | LLC3278
BRISTOL FIVE, INC. | 62975 NE TUMALT RD, CASCADE LOCKS, OR 97014 | LLC1891
BRISTOL MARINER, LLC | 5470 SHILSHOLE AVE NW, STE 410, SEATTLE, WA 98107 | LLC3579
BRUCE E. JOYCE | 3535 SE CORA DR, PORTLAND, OR 91202 | LLC2701
CAPRICE, INC. | 164 PELICAN WAY, FRIDAY HARBOR, WA 98250 | LLC2753
CASCADE MARINER, LLC | 5470 SHILSHORE AVE NW #410, SEATTLE, WA 98107 | LLC3459
CELTIC SEAS, INC. | PO BOX 17701, SEATTLE, WA 98107 | LLC4860
CHARLES G. JOHNSON | PO BOX 813, KODIAK, AK 99615 | LLC2058
CHARLES G. JOHNSON | PO BOX 813, KODIAK, AK 99615 | LLC3680
CONTROLLER BAY, JOINT VENTURE | 1 DOGWOOD PL, EDMONDS, WA 98020 | LLC3342
COREY K. WILSON | PO BOX 267, KING COVE, AK 99612 | LLC3127
COUGAR INDUSTRIES, INC. | 4711 CHEROKEE LANE, NEWPORT, OR 97365 | LLC2514
COURAGEOUS SEAFOODS | 4502 14TH AVE NW, SEATTLE, WA 98107 | LLC1577
DAR-JEN, INC. | PO BOX 3128, KODIAK, AK 99615 | LLC3093
DEBRA D, INC. | 16559 KAMB RD, MOUNT VERNON, WA 98273 | LLC3850
DECEPTION FISHERIES | PO BOX 1144, PETERSBURG, AK 99833 | LLC3290
DEEP SEA HARVESTER, INC. | 3900 RAILWAY AVE, EVERETT, WA 98201 | LLC2888
DENNIS DEAVER | 1223 PARKWAY DR, RICHMOND, CA 94803 | LLC1923
DESTINATION, INC. | PO BOX 17701, SEATTLE, WA 98107 | LLC3328
DIAMOND HEAD, INC. | 3955 NIELSON CIRCLE, STE A, HOMER, AK 99603-7714 | LLC1947
DIAMONDBACK SEAFOODS, INC. | 916 DELANEY ST, ANCHORAGE, AK 99501 | LLC1156
DIAMONDBACK SEAFOODS, INC. | 916 DELANEY ST, ANCHORAGE, AK 99501 | LLC2345
DIAMONDBACK SEAFOODS, INC. | 916 DELANEY ST, ANCHORAGE, AK 99501 | LLC1380
DONA MARTITA LLC | 20308 DAYTON AVE N, SHORELINE, WA 98133 | LLC2788
EARLY DAWN LLC | 7215 156TH ST SOUTHWEST, EDMONDS, WA 98026 | LLC3193
ELIZABETH F, INC. | PO BOX 1275, KODIAK, AK 99615 | LLC1274
ENTRANCE POINT, INC. | 3543 LOWER HONOAPITLANI, LAHAINA, HI 96761 | LLC1782
ERLA-N, LLC | 18509 8TH AVE NW, SEATTLE, WA 98177 | LLC2215
ESTATE OF CARL A KOSO | PO BOX 237, KING COVE, AK 99612 | LLC3484
EVENING STAR, INC. | 4019 21ST AVE W, SEATTLE, WA 98199 | LLC3903
EVENING STAR, INC. | 4019 21ST AVE W, SEATTLE, WA 98199 | LLC3905
EXCELLER FISHERIES, INC. | PO BOX 5993, BELLINGHAM, WA 98227 | LLC1314
F. JAMES KOCH | PO BOX 1243, LEWISTON, ID 83501 | LLC2742
F/V AJ, LLC | 2200 6TH AVE, SUITE 710, SEATTLE, WA 98121 | LLC3655
F/V ARCTIC WIND, LLC | 5470 SHILSHOLE AVE NW, STE 500, SEATTLE, WA 98107 | LLC4010
F/V KATIE K & OWNERS | 1101 EMERALD HILLS DR, EDMONDS, WA 98020 | LLC3687
F/V KETA, INC. | PO BOX 17701, SEATTLE, WA 98107 | LLC3632
F/V LADY BLACKIE, LLC | 916 DELANEY ST, ANCHORAGE, AK 99501 | LLC1960
F/V MAVERICK, LLC | BOOKEEPERS PLUS, 4875 ASH ST, ASTORIA, OR 97103 | LLC3196
F/V NORTH WIND, INC. | 1441 NORTHLAKE WAY, SEATTLE, WA 98103 | LLC1639
F/V PINNACLE, INC. | 19618 61ST AVE SE, SNOHOMISH, WA 98290 | LLC3356
F/V SEA ERN & OWNERS | 10761 E LAKE JOY DR NE, CARNATION, WA 98014 | LLC3224
F/V SEABROOKE ENTERPRISES, LLC | 83972 EASTSIDE RD, MILTON-FREEWATER, OR 97862 | LLC2925
FAIRWEATHER FISHERIES, INC. | 2225 OCEANVIEW DR, NEWPORT, OR 97365 | LLC1733
FAIRWEATHER FISHERIES, INC. | 2225 OCEANVIEW DR, NEWPORT, OR 97365 | LLC2943
FANNINGS DENALI, INC. | 164 PELICAN WAY, FRIDAY HARBOR, WA 98250 | LLC3334
FAR NORTH FISHERMEN, INC. | 6947 COAL CREEK PARKWAY SE, STE 238, NEW CASTLE, WA 98059 | LLC1285
FARWEST LEADER PARTNERSHIP | 5303 SHILSHOLE AVE NW, SEATTLE, WA 98107 | LLC2941
FIERCE ALLEGIANCE, LLC | 7215 156TH ST SOUTHWEST, EDMONDS, WA 98026 | LLC3472
FLYING CLOUD PARTNERSHIP | TRIDENT SEAFOODS, 5303 SHILSHOLE AVE NW, SEATTLE, WA 98107 | LLC2206
FOUR DAUGHTERS, INC. | RT 8, BOX 113, MANKATO, MN 56001 | LLC3383
FRANCIS M NW, LLC | 164 PELICAN WAY, FRIDAY HARBOR, WA 98250 | LLC4681
FRANK MCFARLAND | PO BOX 364, NOME, AK 99762 | LLC2770
FURY GROUP, INC. | 6401 26TH AVE NW, SEATTLE, WA 98107 | LLC1539
FURY GROUP, INC. | 6401 26TH AVE NW, SEATTLE, WA 98107 | LLC2621
FURY GROUP, INC. | 6401 26TH AVE NW, SEATTLE, WA 98107 | LLC2540
FY FISHERIES, INC. | PO BOX 352, NEWPORT, OR 97365 | LLC2790
GENE E. WATSON | 949 WILDWOOD RD, CURTIS, WA 98538 | LLC3297
GLACIER BAY FISHERIES, LLC | C/O FMS, INC, 620 SIXTH STREET SOUTH, KIRKLAND, WA 98033 | LLC3733
GLEN EVANS | 583 S MICHAEL WAY, CAMANO ISLAND, WA 98292 | LLC3382
GOLDEN DAWN, LLC | 5303 SHILSHOLE AVE NW, SEATTLE, WA 98107 | LLC3735
GOLDEN PISCES, INC. | PO BOX 1523, NEWPORT, OR 97365 | LLC3856
GOLDEN SHAMROCK, INC. | FISHERMEN'S TERMINAL, 4005 20TH AVE W, STE 218, SEATTLE, WA 98199 | LLC2063
GORDON E. GILES | PO BOX 127, SELDOVIA, AK 99663 | LLC1434
GREAT WEST SEAFOODS, L.P. | 511 W COMSTOCK ST, SEATTLE, WA 98119 | LLC1849
GULF WINDS LLC | 3600 15 TH AVE W, SEATTLE, WA 98119 | LLC3135
GUNN SEA VENTURE, LLC | 1445 NW 56TH ST, SEATTLE, WA 98107-3726 | LLC3559
GUNN-WIDING ENTERPRISES | PO BOX 1404, EDMONDS, WA 98020 | LLC3218
GUSTAFSON FISHERIES, INC. | PO BOX 8573, KODIAK, AK 99615 | LLC3598
HAERLING ENTERPRISES, INC. |  |
| 2209 THEA COURT, MILTON, WA 98354 | LLC3283
HAL LEWIS | PO BOX 920571, DUTCH HARBOR, AK 99692 | LLC3700
HARLAN DEAN | PO BOX 61, STRYKER, MT 59933 | LLC2808
HARVESTER ENTERPRISES, LLC | C/O PUDGET SOUND ACCOUNTING, 101 NICKERSON ST #340, SEATTLE, WA 98109 | LLC2326
HENRY W. STREICH | 18496 43RD AVE NE, LAKE FOREST PARK, WA 98155 | LLC3705
HEUKER BROS., INC. | 62975 NE TUMALT RD, CASCADE LOCKS, OR 97014 | LLC1814
HEUKER BROS., INC. | 62975 NE TUMALT RD, CASCADE LOCKS, OR 97014 | LLC3590
HIGHLAND LIGHT SEAFOODS LLC. | 3600 15TH AVE W, STE 300, SEATTLE, WA 98119 | LLC3952
HJELLE ENTERPRISES, INC. | PO BOX 17012, SEATTLE, WA 98127 | LLC3319
HORIZON FISHERIES, LLC | 5470 SHILSHOLE AVE N, STE 500, SEATTLE, WA 98107 | LLC3844
HUSKY CO-OWNERS | PO BOX C-5030, SEATTLE, WA 98105 | LLC3664
ICELANDER, INC. | PO BOX 2074, KODIAK, AK 99615 | LLC2874
ICICLE SEAFOODS, INC. | 4019 - 21ST AVE W, SEATTLE, WA 98199 | LLC2351
ICICLE SEAFOODS, INC. | 4019 - 21ST AVE W, SEATTLE, WA 98199 | LLC2699
ICY BAY, INC. | C/O PUGET SOUND ACCOUNTING, 101 NICKERSON, STE 340, SEATTLE, WA 98109 | LLC1725
ILDHUSO FISHERIES, INC. | 101 NICKERSON, STE 340, SEATTLE, WA 98109 | LLC1997
INCENTIVE FISHERIES, LLC | PO BOX 4008, KODIAK, AK 99615 | LLC3249
JAMES R. NIEMELA | PO BOX 2382, HOMER, AK 99603 | LLC2362
JEFF T. STEELE | PO BOX 1732, KODIAK, AK 99615 | LLC2762
JEFF T. STEELE | PO BOX 1732, KODIAK, AK 99615 | LLC2817
JOSE RAUL CASTILLO | PO BOX 568, UNALASKA, AK 99685 | LLC2570
JOSE RAUL CASTILLO | PO BOX 568, UNALASKA, AK 99685 | LLC3527
K H COLBURN, INC | 3117 E AMES LAKE DR NE, REDMOND, WA 98053 | LLC3657
KARI MARIE FISHERIES, LLC | 9784 MARINE VIEW DR, MUKILTEO, WA 98275 | LLC3553
KATRINA-EM, INC. | PO BOX 3065, KODIAK, AK 99615 | LLC2778
KDS, INC. | PO BOX 308, SILVANA, WA 98287 | LLC3716
KDS, INC. | PO BOX 308, SILVANA, WA 98287 | LLC2775
KENDRICK BAY LTD. PARTNERS | PO BOX 5030, SEATTLE, WA 98105 | LLC3675
KENNETH M. SIMPSON | PO BOX 240449, ANCHORAGE, AK 99524-0449 | LLC1279
KEVIN SUYDAM | PO BOX 980, KODIAK, AK 99615 | LLC3264
KEVIN SUYDAM | PO BOX 980, KODIAK, AK 99615 | LLC3337
KEVIN SUYDAM | PO BOX 980, KODIAK, AK 99615 | LLC5383
KEVLEEN K, LLC | 4241 21ST AVE W, STE 100, SEATTLE, WA 98199 | LLC3462
KIRSTEN MARIE FISHERIES, LLC | 9784 MARINE VIEW DR, MUKILTEO, WA 98275 | LLC1729
KISKA SEA PARTNERSHIP | 3859 YAQUINA BAY RD, NEWPORT, OR 97365 | LLC3116
KODIAK QUEEN, INC. | 349 NW 137TH ST, SEATTLE, WA 98177 | LLC3879
KRISTIAN E. POULSEN ENT., INC. | 1143 NW 45TH ST, SEATTLE, WA 98107 | LLC1863
KRISTIAN E. POULSEN ENT., INC. | 1143 NW 45TH ST, SEATTLE, WA 98107 | LLC1885
KRISTIAN E. POULSEN ENT., INC. | 1143 NW 45TH ST, SEATTLE, WA 98107 | LLC1882
L.T.D., INC. | PO BOX 3415, KODIAK, AK 99615 | LLC1450
LABRADOR GROUP | PO BOX C-5030, SEATTLE, WA 98105 | LLC2037
LADY HELEN LLC | 606 N 178TH ST, SHORELINE, WA 98133 | LLC3737
LADY JOANNE, INC. | PO BOX 17701, SEATTLE, WA 98107 | LLC2223
LANGESATER FISHERIES, INC. | 19731 21ST AVE NW, SEATTLE, WA 98177 | LLC2695
LARRY J. SHAISHNIKOFF | PO BOX 45, UNALASKA, AK 99685 | LLC2007
LARRY O. HENDRICKS | PO BOX 17701, SEATTLE, WA 98107 | LLC2546
LIBERATOR FISHERIES, LLC | 5470 SHILSHOLE AVE NW, STE 300, SEATTLE, WA 98107 | LLC3638
LIGHTSHIP, INC. | PO BOX 1404, EDMONDS, WA 98020 | LLC3107
LONGRICH ENTERPRISES, INC. | PO BOX 2494, KODIAK, AK 99615 | LLC1453
LUDGER DOCHTERMANN | PO BOX 714, KODIAK, AK 99615 | LLC2750
MAR DEL SUD, LTD. | PO BOX 1573, KODIAK, AK 99615 | LLC2646
MARCY J., INC. | 1217 KOUSKOV, KODIAK, AK 99615 | LLC2279
MARGUN ENTERPRISES, LLC | 101 NICKERSON STE 340, SEATTLE, WA 98109 | LLC3629
MARK I, INC. | 511 W COMSTOCK ST, SEATTLE, WA 98119 | LLC2638
MARK MARING II, INC. | 130 NICKERSON ST, STE 212, SEATTLE, WA 98109 | LLC3954
MARWIN, INC. | PO BOX 509, PETERSBURG, AK 99833 | LLC1801
MATTHEW HEGGE | PO BOX 3388, KODIAK, AK 99615 | LLC2106
MATTSEN FISHERIES, INC. | PO BOX 2686, POULSBO, WA 98370 | LLC2577
MATTSEN FISHERIES, INC. | PO BOX 2686, POULSBO, WA 98370 | LLC3541
MICHEAL K. KING | PO BOX 238, MAGNOLIA SPRINGS, AL 36555 | LLC3020
MISTY BLUE, INC. | NORTHERN LIGHTS HAVEN, YAKUTAT, AK 99689 | LLC1485
NEPTUNE, LLC | 2615 4TH AVE, STE 700, SEATTLE, WA 98121 | LLC2156
NEWMAN FISHERIES, INC. | PO BOX 165, KING COVE, AK 99612 | LLC3922
NINILICHIK LTD. PARTNERSHIP | 12000 INDUSTRY WA N3, ANCHORAGE, AK 99515 | LLC3931
NORDIC MARINE, INC. | 200 W 34TH AVE, STE 981, ANCHORAGE, AK 99503 | LLC3274
NORDIC MARINER, LLC | 5470 SHILSHOLE AVE NW, STE 410, SEATTLE, WA 98107 | LLC2309
NORDIC STAR FISHERIES, INC. | 4224 S DRIFTWOOD DR, SPOKANE, WA 99206 | LLC2629
NORDIC VIKING, LLC | PO BOX 129, SISTERS, OR 97759 | LLC3989
NORQUEST SEAFOODS, INC. | 5245 SHILSHOLE AVE NW, SEATTLE, WA 98107 | LLC3331
NORQUEST SEAFOODS, INC. | 5245 SHILSHOLE AVE NW, SEATTLE, WA 98107 | LLC3698
NORQUEST SEAFOODS, INC. | 5245 SHILSHOLE AVE NW, SEATTLE, WA 98107 | LLC3696
NORSEMAN FISHERIES, INC. | 11524 3RD AVE NW, SEATTLE, WA 98199 | LLC1243
NORTH AMERICAN, INC. | 250 NW 39TH ST, STE 5, SEATTLE, WA 98107 | LLC3087
NORTH PACIFIC, LLC | C/O FMS INC, 620 SIXTH ST S, KIRKLAND, WA 98033 | LLC3256
NORTHERN MARINER, LLC | 5470 SHILSHOLE AVE NW #410, SEATTLE, WA 98107 | LLC3581
NORTHERN ORION, INC. | 130 NICKERSON ST, STE 212, SEATTLE, WA 98109 | LLC3035
NORTHPOINT FISHERIES | PO BOX 714, KODIAK, AK 99615 | LLC2288
OBSESSION LIMITED PARTNERSHIP | 12000 INDUSTRY WAY N3, ANCHORAGE, AK 99515 | LLC3934
OCEAN BALLAD, INC. | 112 HARRISON ST, CENTRALIA, WA 98531 | LLC3195
OCEAN BALLAD, INC. | 112 HARRISON ST, CENTRALIA, WA 98531 | LLC3914
OCEAN BALLAD, INC. | 112 HARRISON ST, CENTRALIA, WA 98531 | LLC3916
OCEAN FISHERIES, LLC | 7216 INTERLAAKEN DR, LAKEWOOD, WA 98499 | LLC3945
OCEAN OLYMPIC LLC | C/O FMS INC, 620 SIXTH ST S, KIRKLAND, WA 98033 | LLC3941
OCEAN VIKING LLC | 7216 INTERLAAKEN DR SW, LAKEWOOD, WA 98499 | LLC1229
ODIAK MARITIME | PO BOX 135, CORDOVA, AK 99574 | LLC3061
OLUF K. VEDOY | 10825 159TH ST SE, SNOHOMISH, WA 98290 | LLC1946
PAC MARINER, LLC | 5470 SHILSHOLE AVE NW, STE 410, SEATTLE, WA 98107 | LLC3583
PACIFIC DRAGGERS, INC. | PO BOX 352, NEWPORT, OR 97365 | LLC3494
PACIFIC STAR FISHERIES, LLC | 620 6TH STREET SOUTH, KIRKLAND, WA 98033 | LLC4857
PAR-PAC, INC. | 3711 CARNEGIE DR SE, OLYMPIA, WA 98503 | LLC2252
PAUL GRONHOLDT | PO BOX 288, SAND POINT, AK 99661 | LLC3384
PAVLOF, INC. | 4024 22ND AVE W, SEATTLE, WA 98199 | LLC1740
PENINSULA SALMON, INC. | 164 PELICAN WAY, FRIDAY HARBOR, WA 98250 | LLC3401
POINT FIVE, INC | 62975 NE TUMALT RD, CASCADE LOCKS, OR 97014 | LLC1937
POLAR SEA PARTNERSHIP | 17010 12TH AVE NW, SHORELINE, WA 98177-3825 | LLC1826
PORT LYNCH, INC. | 6920 ROOSEVELT WAY NE #numsign;M3, SEATTLE, WA 98115 | LLC5663
PROVIDER, INC. | PO BOX 37, KODIAK, AK 99615 | LLC2781
PROWLER, LLC | PO BOX 1364, PETERSBURG, AK 99833 | LLC3682
Q & S ENTERPRISES, INC. | PO BOX 70591, SEATTLE, WA 98107 | LLC1817
R.W. BARK CORP. | 375 SKI HILL, LEAVENWORTH, WA 98826 | LLC1994
RAGNVALD SVINO | 16905 13TH AVE NW, SHORELINE, WA 98177 | LLC1391
RAINIER INVESTMENTS, INC. | 605 12TH AVE N, EDMONDS, WA 98020 | LLC2170
RAINIER INVESTMENTS, INC. | 605 12TH AVE N, EDMONDS, WA 98020 | LLC2172
RAINIER INVESTMENTS, INC. | 605 12TH AVE N, EDMONDS, WA 98020 | LLC3417
RETRIEVER CO-OWNERS | PO BOX 5030, SEATTLE, WA 98105-0030 | LLC3669
RICHARD L. SHELFORD | PO BOX 12946, MILL CREEK, WA 98082-2946 | LLC3091
ROBERT J. GUNDERSON | PO BOX 344, KODIAK, AK 99615 | LLC1720
ROBERT NEHUS | PO BOX 1002, UNALASKA, AK 99685 | LLC3010
ROMANZOF FISHING COMPANY LLC | 4502 14TH AVE NW, SEATTLE, WA 98107 | LLC1579
RONALD J. TENNISON | 4248 UPPAL DR, BELLINGHAM, WA 98226 | LLC3114
RONALD K. KECHTER | PO BOX 68, PORT ANGELES, WA 98362 | LLC2195
RONALD R. BRILL | 5470 SHISHOLE AVE NW #410, SEATTLE, WA 98107 | LLC3956
RONDYS, INC. | 5349 229TH AVE SE, ISSAQUAH, WA 98029 | LLC2884
RONDYS, INC. | 5349 229TH AVE SE, ISSAQUAH, WA 98029 | LLC3898
ROYAL AMERICAN FISHERIES, LLC | 511 W COMSTOCK ST, SEATTLE, WA 98119 | LLC1754
ROYAL PACIFIC, LLC | 9784 MARINE VIEW DR, MUKILTEO, WA 98275 | LLC1731
ROYAL VIKING, INC. | 5303 SHILSHOLE AVE NW, SEATTLE, WA 98107 | LLC2236
ROYAL VIKING, INC. | 5303 SHILSHOLE AVE NW, SEATTLE, WA 98107 | LLC2625
ROYAL VIKING, INC. | 5303 SHILSHOLE AVE NW, SEATTLE, WA 98107 | LLC2601
RSD FISHERIES, LLC | PO BOX 12946, MILL CREEK, WA 98082 | LLC1973
RSD FISHERIES, LLC | PO BOX 12946, MILL CREEK, WA 98082 | LLC1975
RUFF & REDDY, INC. | PO BOX 129, SISTERS, OR 97759 | LLC3982
SAGAKA FISHING, INC. | PO BOX 8101, KODIAK, AK 99615 | LLC2078
SAN JUAN SEAFOODS, INC | PO BOX 220, BELLINGHAM, WA 98225 | LLC3742
SAN JUAN SEAFOODS, INC | PO BOX 220, BELLINGHAM, WA 98225 | LLC3757
SAN JUAN SEAFOODS, INC | PO BOX 220, BELLINGHAM, WA 98225 | LLC3750
SCANDIES LTD PARTNERSHIP | 2442 NW MARKET ST #656, SEATTLE, WA 98107 | LLC3336
SEA FISHER LLC | 1120 NW 51ST ST, SEATTLE, WA 98107 | LLC3917
SEA ROVER, LLC | 1136 VISTA PL, EDMONDS, WA 98020 | LLC3723
SEA SPRAY, LLC | 1900 W NICKERSON ST #213, SEATTLE, WA 98119 | LLC2289
SEA STORM LIMITED PARTNERSHIP | 400 N 34TH ST, STE 306, SEATTLE, WA 98103 | LLC1896
SEVENTH SON, INC. | 15209 72ND AVE NE, KENMORE, WA 98028 | LLC3930
SHISHALDIN, LLC | 1445 NW 56TH ST, SEATTLE, WA 98107 | LLC1734
SIBERIAN SEA PARTNERSHIP | 3859 YAQUINA BAY RD, NEWPORT, OR 97365 | LLC3197
SILENT LADY, INC. | PO BOX 17701, SEATTLE, WA 98107 | LLC3326
SILVER SPRAY SEAFOODS, LLC | PO BOX 129, SISTERS, OR 97759 | LLC3984
SNOW KING, INC. | 1917 N BEAVER CK RD, SEAL ROCK, OR 97376 | LLC3213
SPIRIT OF THE NORTH FISHERIES, INC. | 355 NE GOLF COURSE DR, NEWPORT, OR 97365 | LLC1673
SULTAN, LLC | 2930 WESTLAKE AVE N #300, SEATTLE, WA 98109 | LLC3848
SUSITNA MARITIME, INC. | PO BOX 54, HOMER, AK 99603 | LLC3457
TAMARACK VENTURES, LLC | 17640 SE 295TH ST, KENT, WA 98042 | LLC3690
TEMPEST FISHERIES II, LLC | 2930 WESTLAKE AVE N #300, SEATTLE, WA 98109 | LLC4843
THREE RIVERS, INC. OF ANACORTES | 9119 DISTRICT LINE RD, BURLINGTON, WA 98233 | LLC3670
TIME BANDIT, LLC | PO BOX 3643, HOMER, AK 99603 | LLC1625
TIMOTHY J. KENNEDY | C/O BLUE ALEUTIAN LLC, 2930 WESTLAKE AVE N. #300, SEATTLE, WA 98109 | LLC2818
TIMOTHY J. KENNEDY | C/O BLUE ALEUTIAN LLC, 2930 WESTLAKE AVE N. #300, SEATTLE, WA 98109 | LLC3330
TODD HINER | PO BOX 671, KODIAK, AK 99615 | LLC3354
TRIDENT SEAFOODS CORPORATION | ATTN: ALASKA SUPPORT, 5303 SHILSHOLE AVE NW, SEATTLE, WA 98107 | LLC2267
TRIDENT SEAFOODS CORPORATION | ATTN: ALASKA SUPPORT, 5303 SHILSHOLE AVE NW, SEATTLE, WA 98107 | LLC2515
TRIDENT SEAFOODS CORPORATION | ATTN: ALASKA SUPPORT, 5303 SHILSHOLE AVE NW, SEATTLE, WA 98107 | LLC3788
TRIDENT SEAFOODS CORPORATION | ATTN: ALASKA SUPPORT, 5303 SHILSHOLE AVE NW, SEATTLE, WA 98107 | LLC2538
TRIDENT SEAFOODS CORPORATION | ATTN: ALASKA SUPPORT, 5303 SHILSHOLE AVE NW, SEATTLE, WA 98107 | LLC2269
TYNES ENTERPRISES, INC. | F/V AMERICAN EAGLE AND OWNERS, 1212 NW CULBERTSON DR, SEATTLE, WA 98177 | LLC2544
VESTERAALEN L.L.C. | 4225 23 AVE W # 100, SEATTLE, WA 98119 | LLC3530
VIEKODA BAY, LLC | PO BOX 3282, KODIAK, AK 99615 | LLC3775
VIEKODA BAY, LLC | PO BOX 3282, KODIAK, AK 99615 | LLC3777
WAHL FISHERIES, LLC | 100 PORT DOCK RD, REEDSPORT, OR 97467 | LLC3479
WAHL FISHERIES, LLC | 100 PORT DOCK RD, REEDSPORT, OR 97467 | LLC3557
WARDS COVE PACKING CO. | PO BOX 5030, SEATTLE, WA 98105-0030 | LLC3003
WESTERN MARINER, LLC | 5470 SHILSHOLE AVE NW 410, SEATTLE, WA 98107 | LLC2321
WILLIAM C. WILLIAMS | 720 11TH ST, B1, BELLINGHAM, WA 98225 | LLC3911
WILLIAM T. GILBERT | PO BOX 5705, BELLINGHAM, WA 98225 | LLC1906
WINDY BAY, INC. | C/O PUGET SOUND ACCOUNTING, 101 NICKERSON, STE 340, SEATTLE, WA 98109 | LLC2061
WIZARD FISHERIES, INC. | 2442 NW MARKET ST,Number 438, SEATTLE, WA 98107 | LLC1481

(2) Qualifying Voter List:

QUALIFYING VOTERS
NAME | MAILING ADDRESS | INTERIM OR NON-INTERIM CRAB LICENSE NO.
57 DEGREES NORTH, LLC | 1445 NW 56TH ST, SEATTLE, WA 98107 | LLC3554
AIREDALE LLC | 916 DELANEY ST, ANCHORAGE, AK 99501 | LLC2275
ALASKA BOAT COMPANY | PO BOX 5030, SEATTLE, WA 98105 | LLC2039
ALASKA CHALLENGER L.L.C. | PO BOX 5030, SEATTLE, WA 98105 | LLC3667
ALASKA SEA, INC. | 18509 8TH AVE NW, SEATTLE, WA 98177-3153 | LLC1607
ALASKA SEAFOOD PRODUCERS, INC. | PO BOX 1027, NEWPORT, OR 97365 | LLC2187
ALASKA TROJAN FISHERIES | 3859 YAQUINA BAY RD, NEWPORT, OR 97365 | LLC3873
ALASKAN BEAUTY, LLC | C/O FMS INC, 620 SIXTH ST S, KIRKLAND, WA 98033 | LLC3301
ALEUTIAN BALLAD, INC. | 112 HARRISON AVE, CENTRALIA, WA 98531 | LLC3170
ALEUTIAN MARINER, LLC | 5470 SHILSHOLE AVE NW, STE 410, SEATTLE, WA 98107 | LLC3587
ALEUTIAN SHELLFISH, INC. | PO BOX 17701, SEATTLE, WA 98107 | LLC1971
ALEUTIAN SPRAY FISHERIES, INC. | 5470 SHILSHOLE AVE NW, STE 300, SEATTLE, WA 98107 | LLC2095
ALEUTIAN SPRAY FISHERIES, INC. | 5470 SHILSHOLE AVE NW, STE 300, SEATTLE, WA 98107 | LLC2099
ALEUTIAN SPRAY FISHERIES, INC. | 5470 SHILSHOLE AVE NW, STE 300, SEATTLE, WA 98107 | LLC2097
ALEUTIAN SPRAY REVERSE LLC | 2621 EASTLAKE AVE EAST, SEATTLE, WA 98102 | LLC2555
ALEUTIAN SPRAY, LLC | 101 NICKERSON, STE 340, C/O PUGET SOUND ACCOUNTING, SEATTLE, WA 98109 | LLC3861
AMATULI ENTERPRISES | PO BOX 1404, EDMONDS, WA 98020-1404 | LLC2260
AMERICAN STAR & OWNERS | 16 COLUMBIA KEY, BELLEVUE, WA 98006 | LLC3200
AMERICAN WAY FISHERIES, INC. | 4044 CLIFFSIDE RD, KODIAK, AK 99615 | LLC1658
ANDRONICA, INC. | 19239 40TH PL NE, SEATTLE, WA 98155 | LLC3809
ARCHIE GOULD | PO BOX 347, KING COVE, AK 99612 | LLC3031
ARCTIC BARUNA, LLC | 2629 NW 54TH, SEATTLE, WA 98072 | LLC2087
ARCTIC BARUNA, LLC | 2629 NW 54TH, SEATTLE, WA 98072 | LLC2088
ARCTIC EAGLE, LLC | 1212 NW CULBERTSON DR, SEATTLE, WA 98177 | LLC3891
ARCTIC MARINER, LLC | 5470 SHILSHOLE AVE NW, STE 410, SEATTLE, WA 98107 | LLC3585
ARCTIC SUN FISHERIES, INC. | 11825 SE EASTBOURNE LANE, PORTLAND, OR 97236 | LLC2366
ARCTIC VENTURES, INC. | 101 NICKERSON ST, STE 340, SEATTLE, WA 98109 | LLC3047
ARTHUR W. FOX | PO BOX 1713, KODIAK, AK 99615 | LLC1716
ATLANTICO, INC. | PO BOX 129, SISTERS, OR 97759 | LLC2471
AUTUMN DAWN PARTNERSHIP | 1445 NW 56TH ST, SEATTLE, WA 98107-3726 | LLC1808
BARBARA J PARTNERSHIP | 5303 SHILSHOLE AVE NW, SEATTLE, WA 98107 | LLC3824
BEAUTY BAY, INC. | 1223 PARKWAY DR, RICHMOND, CA 94803 | LLC3618
BELLA K OF SEATTLE, LLC | PO BOX 17911, SEATTLE, WA 98107 | LLC2020
BELLA K OF SEATTLE, LLC | PO BOX 17911, SEATTLE, WA 98107 | LLC3661
BERING FIVE, INC | 62975 NE TUMALT RD, CASCADE LOCKS, OR 97014 | LLC4743
BERING STAR, LLC | C/O H.A.S., P.O. BOX 17012, SEATTLE, WA 98107-0712 | LLC3889
BERING STAR, LLC | C/O H.A.S., P.O. BOX 17012, SEATTLE, WA 98107-0712 | LLC3965
BIG BLUE FISHERIES | PO BOX 663, CATHLAMET, WA 98612 | LLC1766
BLUE ALEUTIAN, LLC | 2930 WESTLAKE AVE N, #300, SEATTLE, WA 98109 | LLC3849
BLUE ATTU, LLC | 2930 WESTLAKE AVE N, #300, SEATTLE, WA 98109 | LLC3974
BLUE BOATS CORP. | 5470 SHILSHOLE AVE NW, STE 500, SEATTLE, WA 98107 | LLC2093
BLUE DUTCH, LLC | 2930 WESTLAKE AVE N, #300, SEATTLE, WA 98109 | LLC3846
BOWLDEN, INC. | 12616 25TH SE, EVERETT, WA 98208 | LLC4019
BREKKAA FISHERIES, INC. | 1707 NW 56TH, SEATTLE, WA 98107 | LLC3278
BRISTOL FIVE, INC. | 62975 NE TUMALT RD, CASCADE LOCKS, OR 97014 | LLC1891
BRISTOL MARINER, LLC | 5470 SHILSHOLE AVE NW, STE 410, SEATTLE, WA 98107 | LLC3579
BRUCE E. JOYCE | 3535 SE CORA DR, PORTLAND, OR 91202 | LLC2701
CAPRICE, INC. | 164 PELICAN WAY, FRIDAY HARBOR, WA 98250 | LLC2753
CASCADE MARINER, LLC | 5470 SHILSHORE AVE NW #410, SEATTLE, WA 98107 | LLC3459
CELTIC SEAS, INC. | PO BOX 17701, SEATTLE, WA 98107 | LLC4860
CHARLES G. JOHNSON | PO BOX 813, KODIAK, AK 99615 | LLC2058
CHARLES G. JOHNSON | PO BOX 813, KODIAK, AK 99615 | LLC3680
CHARLES REHDER | PO BOX 2065, HOMER, AK 99603 | LLC3340
COLLINS FISHERIES, INC. | PO BOX 736, OAK HARBOR, WA 98277 | LLC3947
CONTROLLER BAY, JOINT VENTURE | 1 DOGWOOD PL, EDMONDS, WA 98020 | LLC3342
COREY K. WILSON | PO BOX 267, KING COVE, AK 99612 | LLC3127
COUGAR INDUSTRIES, INC. | 4711 CHEROKEE LANE, NEWPORT, OR 97365 | LLC2514
COURAGEOUS SEAFOODS | 4502 14TH AVE NW, SEATTLE, WA 98107 | LLC1577
DAR-JEN, INC. | PO BOX 3128, KODIAK, AK 99615 | LLC3093
DEBRA D, INC. | 16559 KAMB RD, MOUNT VERNON, WA 98273 | LLC3850
DECEPTION FISHERIES | PO BOX 1144, PETERSBURG, AK 99833 | LLC3290
DEEP SEA FISHERIES, INC. | 3900 RAILWAY AVE, EVERETT, WA 98201 | LLC1418
DEEP SEA HARVESTER, INC. | 3900 RAILWAY AVE, EVERETT, WA 98201 | LLC2888
DENNIS DEAVER | 1223 PARKWAY DR, RICHMOND, CA 94803 | LLC1923
DESTINATION, INC. | PO BOX 17701, SEATTLE, WA 98107 | LLC3328
DIAMOND HEAD, INC. | 3955 NIELSON CIRCLE, STE A, HOMER, AK 99603-7714 | LLC1947
DIAMONDBACK SEAFOODS, INC. | 916 DELANEY ST, ANCHORAGE, AK 99501 | LLC1156
DIAMONDBACK SEAFOODS, INC. | 916 DELANEY ST, ANCHORAGE, AK 99501 | LLC1380
DIAMONDBACK SEAFOODS, INC. | 916 DELANEY ST, ANCHORAGE, AK 99501 | LLC2345
DONA MARTITA LLC | 20308 DAYTON AVE N, SHORELINE, WA 98133 | LLC2788
EARLY DAWN LLC | 7215 156TH ST SOUTHWEST, EDMONDS, WA 98026 | LLC3193
ELIZABETH F, INC. | PO BOX 1275, KODIAK, AK 99615 | LLC1274
ENTRANCE POINT, INC. | 3543 LOWER HONOAPITLANI, LAHAINA, HI 96761 | LLC1782
ERLA-N, LLC | 18509 8TH AVE NW, SEATTLE, WA 98177 | LLC2215
ERLA-N, LLC | 18509 8TH AVE NW, SEATTLE, WA 98177 | LLC3857
ESTATE OF CARL A KOSO | PO BOX 237, KING COVE, AK 99612 | LLC3484
EVENING STAR, INC. | 4019 21ST AVE W, SEATTLE, WA 98199 | LLC3903
EVENING STAR, INC. | 4019 21ST AVE W, SEATTLE, WA 98199 | LLC3905
EXCELLER FISHERIES, INC. | PO BOX 5993, BELLINGHAM, WA 98227 | LLC1314
F. JAMES KOCH | PO BOX 1243, LEWISTON, ID 83501 | LLC2742
F/V AJ, LLC | 2200 6TH AVE, SUITE 710, SEATTLE, WA 98121 | LLC3655
F/V ARCTIC WIND, LLC | 5470 SHILSHOLE AVE NW, STE 500, SEATTLE, WA 98107 | LLC4010
F/V KATIE K & OWNERS | 1101 EMERALD HILLS DR, EDMONDS, WA 98020 | LLC3687
F/V KETA, INC. | PO BOX 17701, SEATTLE, WA 98107 | LLC3632
F/V LADY BLACKIE, LLC | 916 DELANEY ST, ANCHORAGE, AK 99501 | LLC1960
F/V MAVERICK, LLC | BOOKEEPERS PLUS, 4875 ASH ST, ASTORIA, OR 97103 | LLC3196
F/V NORTH WIND, INC. | 1441 NORTHLAKE WAY, SEATTLE, WA 98103 | LLC1639
F/V PINNACLE, INC. | 19618 61ST AVE SE, SNOHOMISH, WA 98290 | LLC3356
F/V SEA ERN & OWNERS | 10761 E LAKE JOY DR NE, CARNATION, WA 98014 | LLC3224
F/V SEABROOKE ENTERPRISES, LLC | 83972 EASTSIDE RD, MILTON-FREEWATER, OR 97862 | LLC2925
FAIRWEATHER FISHERIES, INC. | 2225 OCEANVIEW DR, NEWPORT, OR 97365 | LLC1733
FAIRWEATHER FISHERIES, INC. | 2225 OCEANVIEW DR, NEWPORT, OR 97365 | LLC2943
FANNINGS DENALI, INC. | 164 PELICAN WAY, FRIDAY HARBOR, WA 98250 | LLC3334
FAR NORTH FISHERMEN, INC. | 6947 COAL CREEK PARKWAY SE, STE 238, NEW CASTLE, WA 98059 | LLC1285
FARWEST LEADER PARTNERSHIP | 5303 SHILSHOLE AVE NW, SEATTLE, WA 98107 | LLC2941
FIERCE ALLEGIANCE, LLC | 7215 156TH ST SOUTHWEST, EDMONDS, WA 98026 | LLC3472
FLYING CLOUD PARTNERSHIP | TRIDENT SEAFOODS, 5303 SHILSHOLE AVE NW, SEATTLE, WA 98107 | LLC2206
FOUR DAUGHTERS, INC. | RT 8, BOX 113, MANKATO, MN 56001 | LLC3383
FRANCIS M NW, LLC | 164 PELICAN WAY, FRIDAY HARBOR, WA 98250 | LLC4681
FRANK MCFARLAND | PO BOX 364, NOME, AK 99762 | LLC2770
FURY GROUP, INC. | 6401 26TH AVE NW, SEATTLE, WA 98107 | LLC1539
FURY GROUP, INC. | 6401 26TH AVE NW, SEATTLE, WA 98107 | LLC2621
FURY GROUP, INC. | 6401 26TH AVE NW, SEATTLE, WA 98107 | LLC2540
FY FISHERIES, INC. | PO BOX 352, NEWPORT, OR 97365 | LLC2790
GENE E. WATSON | 949 WILDWOOD RD, CURTIS, WA 98538 | LLC3297
GLACIER BAY FISHERIES, LLC | C/O FMS, INC, 620 SIXTH STREET SOUTH, KIRKLAND, WA 98033 | LLC3733
GLEN EVANS | 583 S MICHAEL WAY, CAMANO ISLAND, WA 98292 | LLC3382
GOLDEN DAWN, LLC | 5303 SHILSHOLE AVE NW, SEATTLE, WA 98107 | LLC3735
GOLDEN PISCES, INC. | PO BOX 1523, NEWPORT, OR 97365 | LLC3856
GOLDEN SHAMROCK, INC. | FISHERMEN'S TERMINAL, 4005 20TH AVE W, STE 218, SEATTLE, WA 98199 | LLC2063
GORDON E. GILES | PO BOX 127, SELDOVIA, AK 99663 | LLC1434
GREAT WEST SEAFOODS, L.P. | 511 W COMSTOCK ST, SEATTLE, WA 98119 | LLC1849
GULF WINDS LLC | 3600 15 TH AVE W, SEATTLE, WA 98119 | LLC3135
GUNN SEA VENTURE, LLC | 1445 NW 56TH ST, SEATTLE, WA 98107-3726 | LLC3559
GUNN-WIDING ENTERPRISES | PO BOX 1404, EDMONDS, WA 98020 | LLC3218
GUSTAFSON FISHERIES, INC. | PO BOX 8573, KODIAK, AK 99615 | LLC3598
HAERLING ENTERPRISES, INC. | 2209 THEA COURT, MILTON, WA 98354 | LLC3283
HAL LEWIS | PO BOX 920571, DUTCH HARBOR, AK 99692 | LLC3700
HANSEN ENTERPRISES, INC. | 18361 8TH AVE NW, SEATTLE, WA 98177 | LLC3276
HARLAN DEAN | PO BOX 61, STRYKER, MT 59933 | LLC2808
HARVESTER ENTERPRISES, LLC | C/O PUDGET SOUND ACCOUNTING, 101 NICKERSON ST #340, SEATTLE, WA 98109 | LLC2326
HENRY W. STREICH | 18496 43RD AVE NE, LAKE FOREST PARK, WA 98155 | LLC3705
HEUKER BROS., INC. | 62975 NE TUMALT RD, CASCADE LOCKS, OR 97014 | LLC1814
HEUKER BROS., INC. | 62975 NE TUMALT RD, CASCADE LOCKS, OR 97014 | LLC3590
HIGH SPIRIT, INC. | PO BOX 1523, C/O DENNIS P. MCMANUS JR CPA, NEWPORT, OR 97365 | LLC4845
HIGHLAND LIGHT SEAFOODS LLC. | 3600 15TH AVE W, STE 300, SEATTLE, WA 98119 | LLC2834
HIGHLAND LIGHT SEAFOODS LLC. | 3600 15TH AVE W, STE 300, SEATTLE, WA 98119 | LLC3952
HJELLE ENTERPRISES, INC. | PO BOX 17012, SEATTLE, WA 98127 | LLC3319
HJELLE ENTERPRISES, INC. | PO BOX 17012, SEATTLE, WA 98127 | LLC3887
HORIZON FISHERIES, LLC | 5470 SHILSHOLE AVE N, STE 500, SEATTLE, WA 98107 | LLC3844
HUSKY CO-OWNERS | PO BOX C-5030, SEATTLE, WA 98105 | LLC3664
ICELANDER, INC. | PO BOX 2074, KODIAK, AK 99615 | LLC2874
ICICLE SEAFOODS, INC. | 4019 - 21ST AVE W, SEATTLE, WA 98199 | LLC2351
ICICLE SEAFOODS, INC. | 4019 - 21ST AVE W, SEATTLE, WA 98199 | LLC2699
ICY BAY, INC. | C/O PUGET SOUND ACCOUNTING, 101 NICKERSON, STE 340, SEATTLE, WA 98109 | LLC1725
ILDHUSO FISHERIES, INC. | 101 NICKERSON, STE 340, SEATTLE, WA 98109 | LLC1997
INCENTIVE FISHERIES, LLC | PO BOX 4008, KODIAK, AK 99615 | LLC3249
JAMES R. NIEMELA | PO BOX 2382, HOMER, AK 99603 | LLC2362
JEFF T. STEELE | PO BOX 1732, KODIAK, AK 99615 | LLC2762
JEFF T. STEELE | PO BOX 1732, KODIAK, AK 99615 | LLC2817
JOSE RAUL CASTILLO | PO BOX 568, UNALASKA, AK 99685 | LLC2570
JOSE RAUL CASTILLO | PO BOX 568, UNALASKA, AK 99685 | LLC3527
K H COLBURN, INC | 3117 E AMES LAKE DR NE, REDMOND, WA 98053 | LLC3657
KALDESTAD FISHERIES LTD. | 5470 SHILSHOLE AVE NW, STE 410, SEATTLE, WA 98107 | LLC3577
KARI MARIE FISHERIES, LLC | 9784 MARINE VIEW DR, MUKILTEO, WA 98275 | LLC3553
KARIN LYNN FISHERIES, INC. | 3900 RAILWAY AVE, EVERETT, WA 98201 | LLC3332
KATRINA-EM, INC. | PO BOX 3065, KODIAK, AK 99615 | LLC2778
KDS, INC. | PO BOX 308, SILVANA, WA 98287 | LLC3716
KDS, INC. | PO BOX 308, SILVANA, WA 98287 | LLC2775
KENDRICK BAY LTD. PARTNERS | PO BOX 5030, SEATTLE, WA 98105 | LLC3675
KENNETH M. SIMPSON | PO BOX 240449, ANCHORAGE, AK 99524-0449 | LLC1279
KEVIN SUYDAM | PO BOX 980, KODIAK, AK 99615 | LLC3264
KEVIN SUYDAM | PO BOX 980, KODIAK, AK 99615 | LLC3337
KEVIN SUYDAM | PO BOX 980, KODIAK, AK 99615 | LLC4552
KEVIN SUYDAM | PO BOX 980, KODIAK, AK 99615 | LLC5383
KEVIN SUYDAM | PO BOX 980, KODIAK, AK 99615 | LLC3894
KEVLEEN K, LLC | 4241 21ST AVE W, STE 100, SEATTLE, WA 98199 | LLC3462
KIRSTEN MARIE FISHERIES, LLC | 9784 MARINE VIEW DR, MUKILTEO, WA 98275 | LLC1729
KISKA SEA PARTNERSHIP | 3859 YAQUINA BAY RD, NEWPORT, OR 97365 | LLC3116
KODIAK QUEEN, INC. | 349 NW 137TH ST, SEATTLE, WA 98177 | LLC3879
KRISTIAN E. POULSEN ENT., INC. | 1143 NW 45TH ST, SEATTLE, WA 98107 | LLC1863
KRISTIAN E. POULSEN ENT., INC. | 1143 NW 45TH ST, SEATTLE, WA 98107 | LLC1882
KRISTIAN E. POULSEN ENT., INC. | 1143 NW 45TH ST, SEATTLE, WA 98107 | LLC1885
L.T.D., INC. | PO BOX 3415, KODIAK, AK 99615 | LLC1450
LABRADOR GROUP | PO BOX C-5030, SEATTLE, WA 98105 | LLC2037
LADY HELEN LLC | 606 N 178TH ST, SHORELINE, WA 98133 | LLC3737
LADY JOANNE, INC. | PO BOX 17701, SEATTLE, WA 98107 | LLC2223
LANGESATER FISHERIES, INC. | 19731 21ST AVE NW, SEATTLE, WA 98177 | LLC2695
LARRY J. SHAISHNIKOFF | PO BOX 45, UNALASKA, AK 99685 | LLC2007
LARRY O. HENDRICKS | PO BOX 17701, SEATTLE, WA 98107 | LLC2546
LEE ROSE, INC. | PO BOX 712, GRAYLAND, WA 98547 | LLC4730
LIBERATOR FISHERIES, LLC | 5470 SHILSHOLE AVE NW, STE 300, SEATTLE, WA 98107 | LLC3638
LIGHTSHIP, INC. | PO BOX 1404, EDMONDS, WA 98020 | LLC3107
LISA MARIE FISHERIES, LLC | 301 CALISTA COURT, ANCHORAGE, AK 99518 | LLC1671
LONGRICH ENTERPRISES, INC. | PO BOX 2494, KODIAK, AK 99615 | LLC1453
LUDGER DOCHTERMANN | PO BOX 714, KODIAK, AK 99615 | LLC2750
MAR DEL SUD, LTD. | PO BOX 1573, KODIAK, AK 99615 | LLC2646
MARCY J., INC. | 1217 KOUSKOV, KODIAK, AK 99615 | LLC2279
MARGUN ENTERPRISES, LLC | 101 NICKERSON STE 340, SEATTLE, WA 98109 | LLC3629
MARK F. DONOVICK | PO BOX 1638, WESTPORT, WA 98595 | LLC4875
MARK I, INC. | 511 W COMSTOCK ST, SEATTLE, WA 98119 | LLC2638
MARK MARING II, INC. | 130 NICKERSON ST, STE 212, SEATTLE, WA 98109 | LLC3954
MARWIN, INC. | PO BOX 509, PETERSBURG, AK 99833 | LLC1801
MATTHEW HEGGE | PO BOX 3388, KODIAK, AK 99615 | LLC2106
MATTSEN FISHERIES, INC. | PO BOX 2686, POULSBO, WA 98370 | LLC2577
MATTSEN FISHERIES, INC. | PO BOX 2686, POULSBO, WA 98370 | LLC3541
MELANIE, INC. | PO BOX 557, DEPOE BAY, OR 97341 | LLC2763
MGF FISHERIES, INC. | PO BOX 17701, SEATTLE, WA 98107 | LLC3295
MICHEAL K. KING | PO BOX 238, MAGNOLIA SPRINGS, AL 36555 | LLC3020
MISTY BLUE, INC. | NORTHERN LIGHTS HAVEN, YAKUTAT, AK 99689 | LLC1485
NEPTUNE, LLC | 2615 4TH AVE, STE 700, SEATTLE, WA 98121 | LLC2156
NEW ERA PARTNERSHIP | 3901 LEARY AVE NW, STE 9, SEATTLE, WA 98107 | LLC3968
NEWMAN FISHERIES, INC. | PO BOX 165, KING COVE, AK 99612 | LLC3922
NINILICHIK LTD. PARTNERSHIP | 12000 INDUSTRY WA N3, ANCHORAGE, AK 99515 | LLC3931
NORDIC MARINE, INC. | 200 W 34TH AVE, STE 981, ANCHORAGE, AK 99503 | LLC3274
NORDIC MARINER, LLC | 5470 SHILSHOLE AVE NW, STE 410, SEATTLE, WA 98107 | LLC2309
NORDIC STAR FISHERIES, INC. | 4224 S DRIFTWOOD DR, SPOKANE, WA 99206 | LLC2629
NORDIC VIKING, LLC | PO BOX 129, SISTERS, OR 97759 | LLC3989
NORQUEST SEAFOODS, INC. | 5245 SHILSHOLE AVE NW, SEATTLE, WA 98107 | LLC3331
NORQUEST SEAFOODS, INC. | 5245 SHILSHOLE AVE NW, SEATTLE, WA 98107 | LLC3698
NORQUEST SEAFOODS, INC. | 5245 SHILSHOLE AVE NW, SEATTLE, WA 98107 | LLC3696
NORSEMAN FISHERIES, INC. | 11524 3RD AVE NW, SEATTLE, WA 98199 | LLC1243
NORTH AMERICAN, INC. | 250 NW 39TH ST, STE 5, SEATTLE, WA 98107 | LLC3087
NORTH PACIFIC, LLC | C/O FMS INC, 620 SIXTH ST S, KIRKLAND, WA 98033 | LLC3256
NORTHERN MARINER, LLC | 5470 SHILSHOLE AVE NW #410, SEATTLE, WA 98107 | LLC3581
NORTHERN ORION, INC. | 130 NICKERSON ST, STE 212, SEATTLE, WA 98109 | LLC3035
NORTHERN ORION, INC. | 130 NICKERSON ST, STE 212, SEATTLE, WA 98109 | LLC5166
NORTHPOINT FISHERIES | PO BOX 714, KODIAK, AK 99615 | LLC2288
NOTORIOUS PARTNERSHIP | 1445 NW 56TH ST, SEATTLE, WA 98107-3726 | LLC3613
NUKA ISLAND, INC. | PO BOX 2486, KODIAK, AK 99615 | LLC3813
OBSESSION LIMITED PARTNERSHIP | 12000 INDUSTRY WAY N3, ANCHORAGE, AK 99515 | LLC3934
OCEAN BALLAD, INC. | 112 HARRISON ST, CENTRALIA, WA 98531 | LLC3195
OCEAN BALLAD, INC. | 112 HARRISON ST, CENTRALIA, WA 98531 | LLC3914
OCEAN BALLAD, INC. | 112 HARRISON ST, CENTRALIA, WA 98531 | LLC3916
OCEAN CAPE, LLC | PO BOX 17701, SEATTLE, WA 98107 | LLC3644
OCEAN FISHERIES, LLC | 7216 INTERLAAKEN DR, LAKEWOOD, WA 98499 | LLC3945
OCEAN OLYMPIC LLC | C/O FMS INC, 620 SIXTH ST S, KIRKLAND, WA 98033 | LLC3941
OCEAN STORM FISHERIES, INC. | 2273 66TH AVE SE, MERCER ISLAND, WA 98040 | LLC3659
OCEAN VIKING LLC | 7216 INTERLAAKEN DR SW, LAKEWOOD, WA 98499 | LLC1229
ODIAK MARITIME | PO BOX 135, CORDOVA, AK 99574 | LLC3061
OLUF K. VEDOY | 10825 159TH ST SE, SNOHOMISH, WA 98290 | LLC1946
OSTROM FISHERIES, INC. | PO BOX 1957, PRIEST RIVER, ID 83856 | LLC3646
PAC MARINER, LLC | 5470 SHILSHOLE AVE NW, STE 410, SEATTLE, WA 98107 | LLC3583
PACIFIC DRAGGERS, INC. | PO BOX 352, NEWPORT, OR 97365 | LLC3494
PACIFIC RIM FISHERIES, INC. | 410 BELLEVUE WAY SE, STE 304, BELLEVUE, WA 98004 | LLC3230
PACIFIC STAR FISHERIES, LLC | 620 6TH STREET SOUTH, KIRKLAND, WA 98033 | LLC4857
PAR-PAC, INC. | 3711 CARNEGIE DR SE, OLYMPIA, WA 98503 | LLC2252
PAUL GRONHOLDT | PO BOX 288, SAND POINT, AK 99661 | LLC3384
PAVLOF, INC. | 4024 22ND AVE W, SEATTLE, WA 98199 | LLC1740
PENINSULA SALMON, INC. | 164 PELICAN WAY, FRIDAY HARBOR, WA 98250 | LLC3401
POINT FIVE, INC | 62975 NE TUMALT RD, CASCADE LOCKS, OR 97014 | LLC1937
POLAR SEA PARTNERSHIP | 17010 12TH AVE NW, SHORELINE, WA 98177-3825 | LLC1826
PORT LYNCH, INC. | 6920 ROOSEVELT WAY NE #M3, SEATTLE, WA 98115 | LLC5663
PROFS. FISHERMEN'S ASSOC., INC. | PO BOX 669, BELLINGHAM, WA 98227 | LLC3106
PROVIDER, INC. | PO BOX 37, KODIAK, AK 99615 | LLC2781
PROWLER, LLC | PO BOX 1364, PETERSBURG, AK 99833 | LLC3682
Q & S ENTERPRISES, INC. | PO BOX 70591, SEATTLE, WA 98107 | LLC1817
R.W. BARK CORP. | 375 SKI HILL, LEAVENWORTH, WA 98826 | LLC1994
RAGNVALD SVINO | 16905 13TH AVE NW, SHORELINE, WA 98177 | LLC1391
RAINIER INVESTMENTS, INC. | 605 12TH AVE N, EDMONDS, WA 98020 | LLC2170
RAINIER INVESTMENTS, INC. | 605 12TH AVE N, EDMONDS, WA 98020 | LLC3417
RAINIER INVESTMENTS, INC. | 605 12TH AVE N, EDMONDS, WA 98020 | LLC2172
RAYMOND L. BELLAMY | 62084 SKYLINE DR, HOMER, AK 99603 | LLC3338
RELIANCE, INC. | PO BOX 17701, SEATTLE, WA 98107 | LLC3333
RETRIEVER CO-OWNERS | PO BOX 5030, SEATTLE, WA 98105-0030 | LLC3669
RICHARD L. SHELFORD | PO BOX 12946, MILL CREEK, WA 98082-2946 | LLC3091
RICHARD NEWBY | 2510 ASPEN DR, ANCHORAGE, AK 99517 | LLC1966
ROBERT J. GUNDERSON | PO BOX 344, KODIAK, AK 99615 | LLC1720
ROBERT NEHUS | PO BOX 1002, UNALASKA, AK 99685 | LLC3010
ROMANZOF FISHING COMPANY LLC | 4502 14TH AVE NW, SEATTLE, WA 98107 | LLC1579
RONALD J. TENNISON | 4248 UPPAL DR, BELLINGHAM, WA 98226 | LLC3114
RONALD K. KECHTER | PO BOX 68, PORT ANGELES, WA 98362 | LLC2195
RONALD PETERSON | 101 NICKERSON ST, STE 340, SEATTLE, WA 98177 | LLC3967
RONALD R. BRILL | 5470 SHISHOLE AVE NW #410, SEATTLE, WA 98107 | LLC3956
RONDYS, INC. | 5349 229TH AVE SE, ISSAQUAH, WA 98029 | LLC3898
RONDYS, INC. | 5349 229TH AVE SE, ISSAQUAH, WA 98029 | LLC2884
ROY RASMUSSEN | 15825-2 VILLAGE GREEN DR, MILL CREEK, WA 98012 | LLC3960
ROYAL AMERICAN FISHERIES, LLC | 511 W COMSTOCK ST, SEATTLE, WA 98119 | LLC1754
ROYAL PACIFIC, LLC | 9784 MARINE VIEW DR, MUKILTEO, WA 98275 | LLC1731
ROYAL VIKING, INC. | 5303 SHILSHOLE AVE NW, SEATTLE, WA 98107 | LLC2236
ROYAL VIKING, INC. | 5303 SHILSHOLE AVE NW, SEATTLE, WA 98107 | LLC2625
ROYAL VIKING, INC. | 5303 SHILSHOLE AVE NW, SEATTLE, WA 98107 | LLC2601
RSD FISHERIES, LLC | PO BOX 12946, MILL CREEK, WA 98082 | LLC1973
RSD FISHERIES, LLC | PO BOX 12946, MILL CREEK, WA 98082 | LLC1975
RUFF & REDDY, INC. | PO BOX 129, SISTERS, OR 97759 | LLC3982
SAGAKA FISHING, INC. | PO BOX 8101, KODIAK, AK 99615 | LLC2078
SAN JUAN SEAFOODS, INC | PO BOX 220, BELLINGHAM, WA 98225 | LLC3742
SAN JUAN SEAFOODS, INC | PO BOX 220, BELLINGHAM, WA 98225 | LLC3750
SAN JUAN SEAFOODS, INC | PO BOX 220, BELLINGHAM, WA 98225 | LLC3757
SANKO FISHERIES, LLC | 3900 RAILWAY AVE, EVERETT, WA 98201 | LLC3806
SCANDIES LTD PARTNERSHIP | 2442 NW MARKET ST #numsign;656, SEATTLE, WA 98107 | LLC3336
SEA FISHER LLC | 1120 NW 51ST ST, SEATTLE, WA 98107 | LLC3917
SEA ROVER, LLC | 1136 VISTA PL, EDMONDS, WA 98020 | LLC3723
SEA SPRAY, LLC | 1900 W NICKERSON ST #213, SEATTLE, WA 98119 | LLC2289
SEA STORM LIMITED PARTNERSHIP | 400 N 34TH ST, STE 306, SEATTLE, WA 98103 | LLC1896
SEVENTH SON, INC. | 15209 72ND AVE NE, KENMORE, WA 98028 | LLC3930
SHELIKOF MARITIME, INC. | 2629 NW 54TH, SEATTLE, WA 98107 | LLC2120
SHISHALDIN, LLC | 1445 NW 56TH ST, SEATTLE, WA 98107 | LLC1734
SIBERIAN SEA PARTNERSHIP | 3859 YAQUINA BAY RD, NEWPORT, OR 97365 | LLC3197
SILENT LADY, INC. | PO BOX 17701, SEATTLE, WA 98107 | LLC3326
SILVER SPRAY SEAFOODS, LLC | PO BOX 129, SISTERS, OR 97759 | LLC3984
SITKIN ISLAND, INC. | 130 NICKERSON ST, STE 212, SEATTLE, WA 98109 | LLC3033
SITKIN ISLAND, INC. | 130 NICKERSON ST, STE 212, SEATTLE, WA 98109 | LLC5162
SNOW KING, INC. | 1917 N BEAVER CK RD, SEAL ROCK, OR 97376 | LLC3213
SPIRIT OF THE NORTH FISHERIES, INC. | 355 NE GOLF COURSE DR, NEWPORT, OR 97365 | LLC1673
ST. GEORGE MARINE, INC. | 6439 NE 188TH ST, KENMORE, WA 98028 | LLC3379
SULTAN, LLC | 2930 WESTLAKE AVE N #300, SEATTLE, WA 98109 | LLC3848
SUSITNA MARITIME, INC. | PO BOX 54, HOMER, AK 99603 | LLC3457
TAMARACK VENTURES, LLC | 17640 SE 295TH ST, KENT, WA 98042 | LLC3690
TEMPEST FISHERIES II, LLC | 2930 WESTLAKE AVE N #300, SEATTLE, WA 98109 | LLC4843
THOMAS G. ANGLIN | C/O KONA KAI PUGET SOUND ACCOUNTING, 101 NICKERSON, STE 340, SEATTLE, WA 98109 | LLC3996
THREE RIVERS, INC. OF ANACORTES | 9119 DISTRICT LINE RD, BURLINGTON, WA 98233 | LLC3670
TIME BANDIT, LLC | PO BOX 3643, HOMER, AK 99603 | LLC1625
TIMOTHY J. KENNEDY | C/O BLUE ALEUTIAN LLC, 2930 WESTLAKE AVE N. #300, SEATTLE, WA 98109 | LLC2818
TIMOTHY J. KENNEDY | C/O BLUE ALEUTIAN LLC, 2930 WESTLAKE AVE N. #300, SEATTLE, WA 98109 | LLC3330
TODD HINER | PO BOX 671, KODIAK, AK 99615 | LLC3354
TRIDENT SEAFOODS CORPORATION | ATTN: ALASKA SUPPORT, 5303 SHILSHOLE AVE NW, SEATTLE, WA 98107 | LLC2267
TRIDENT SEAFOODS CORPORATION | ATTN: ALASKA SUPPORT, 5303 SHILSHOLE AVE NW, SEATTLE, WA 98107 | LLC3788
TRIDENT SEAFOODS CORPORATION | ATTN: ALASKA SUPPORT, 5303 SHILSHOLE AVE NW, SEATTLE, WA 98107 | LLC2538
TRIDENT SEAFOODS CORPORATION | ATTN: ALASKA SUPPORT, 5303 SHILSHOLE AVE NW, SEATTLE, WA 98107 | LLC2515
TRIDENT SEAFOODS CORPORATION | ATTN: ALASKA SUPPORT, 5303 SHILSHOLE AVE NW, SEATTLE, WA 98107 | LLC2269
TYNES ENTERPRISES, INC. | F/V AMERICAN EAGLE AND OWNERS, 1212 NW CULBERTSON DR, SEATTLE, WA 98177 | LLC2544
VESTERAALEN L.L.C. | 4225 23 AVE W #; 100, SEATTLE, WA 98119 | LLC3530
VICTOR J. MULLEN | PO BOX 2713, KODIAK, AK 99615 | LLC1792
VIEKODA BAY, LLC | PO BOX 3282, KODIAK, AK 99615 | LLC3775
VIEKODA BAY, LLC | PO BOX 3282, KODIAK, AK 99615 | LLC3777
WAHL FISHERIES, LLC | 100 PORT DOCK RD, REEDSPORT, OR 97467 | LLC3479
WAHL FISHERIES, LLC | 100 PORT DOCK RD, REEDSPORT, OR 97467 | LLC3557
WARDS COVE PACKING CO. | PO BOX 5030, SEATTLE, WA 98105-0030 | LLC3003
WESTERN MARINER, LLC | 5470 SHILSHOLE AVE NW 410, SEATTLE, WA 98107 | LLC2321
WILLIAM C. WILLIAMS | 720 11TH ST, B1, BELLINGHAM, WA 98225 | LLC3911
WILLIAM CHOQUETTE | 629 L ST, STE 101, ANCHORAGE, AK 99501 | LLC3711
WILLIAM R. RENFRO | PO BOX 627, CATHLAMET, WA 98612 | LLC3296
WILLIAM T. GILBERT | PO BOX 5705, BELLINGHAM, WA 98225 | LLC1906
WINDANCE FISHERIES, INC. | 355 NE GOLF COURSE D, NEWPORT, OR 97365 | LLC3191
WINDY BAY, INC. | C/O PUGET SOUND ACCOUNTING, 101 NICKERSON, STE 340, SEATTLE, WA 98109 | LLC2061
WIZARD FISHERIES, INC. | 2442 NW MARKET ST, #438, SEATTLE, WA 98107 | LLC1481
ZOLOTOI PARTNERSHIP | PO BOX 1064, SITKA, AK 99835 | LLC2920

Authority: 5 U.S.C. 561, 16 U.S.C. 1801 et seq., 16 U.S.C. 1861a(b) through (e), 46 App. U.S.C. 1279f and 1279g, section 144(d) of Division B of Pub. L. 106-554, section 2201 of Pub. L. 107-20, and section 205 of Pub. L. 107-117

Dated: December 16, 2003.
Rebecca Lent,
Deputy Assistant Administrator for Regulatory Programs, National Marine Fisheries Service.

[FR Doc. 03-31485 Filed 12-19-03; 8:45 am]

BILLING CODE 3510-22-S